ELECTION ASSISTANCE COMMISSION

Sunshine Act Notice

AGENCY: United States Election Assistance Commission.

ACTION: Notice of Public Meeting and Hearing Agenda.

Date & Time: Thursday, September 6, 2007, 10 a.m.-5 p.m.

Place: U.S. Election Assistance Commission, 1225 New York Ave, NW., Suite 150, Washington, DC 20005. (Metro Stop: Metro Center).

Agenda: The Commission will consider the following topics: Commissioners will discuss EAC's regulatory authority under the National Voter Registration Act (NVRA) and consider approving a process for adopting NVRA regulations; Commissioners will discuss EAC's regulatory and administrative responsibilities and discuss other administrative matters.

EAC will provide a public comment period to receive comments regarding the commission's regulatory authority under the NVRA. Members of the public who wish to speak must contact and register with EAC by 5 p.m. on Tuesday, September 4, 2007. Speakers may contact EAC via e-mail at testimony@eac.gov, or via mail addressed to the U.S. Election Assistance Commission, 1225 New York Ave, NW., Suite 1100, Washington, DC 20005, or by fax at 202/566-3127. Comments will be strictly limited to 4 minutes per person or organization to ensure the fullest participation possible. All speakers will be contacted prior to the hearing. EAC also encourages members of the public to submit written testimony via e-mail, mail or fax. All public comments will be taken in writing via e-mail at testimony@eac.gov, or via mail addressed to the U.S. Election Assistance Commission, 1225 New York Ave, NW., Suite 1100, Washington, DC 20005, or by fax at 202/566-3127.

This meeting and hearing will be open to the public.

FOR FURTHER INFORMATION CONTACT: Bryan Whitener, Telephone: (202) 566-3100.

Thomas R. Wilkey,
Executive Director, U.S. Election Assistance Commission.

[FR Doc. 07-4156 Filed 8-21-07; 2:48 pm]

BILLING CODE 6820-KF-M